DEPARTMENT OF VETERANS AFFAIRS

[OMB Control No. 2900-0061]

Proposed Information Collection (Request for Supplies (Chapter 31—Vocational Rehabilitation)); Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection and allow 60 days for public comment in response to the notice. This notice solicits comments for information needed to determine whether supplies requested for a veteran's rehabilitation program are necessary.

DATES: Written comments and recommendations on the proposed collection of information should be received on or before December 1, 2014.

ADDRESSES: Submit written comments on the collection of information through the Federal Docket Management System (FDMS) www.Regulations.gov or to Nancy J. Kessinger, Veterans Benefits Administration (20M35), Department of Veterans Affairs, 810 Vermont Avenue NW., Washington, DC 20420 or email to nancy.kessinger@va.gov. Please refer to “OMB Control No. 2900-0061” in any correspondence. During the comment period, comments may be viewed online through FDMS.

FOR FURTHER INFORMATION CONTACT: Nancy J. Kessinger at (202) 632-8924 or FAX (202) 632-8925.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Request for Supplies (Chapter 31—Vocational Rehabilitation), VA Form 28-1905m.

OMB Control Number: 2900-0061.

Type of Review: Revision of a currently approved collection.

Abstract: VA Form 28-1905m is used to request supplies for Veterans in rehabilitation programs. The official at the facility providing rehabilitation services to veterans completes the form and certifies that the veteran needs the supplies for his or her program, and do not have the requested item in his or her possession.

Affected Public: Not-for-profit institutions.

Estimated Annual Burden: 16,000 hours.

Estimated Average Burden per Respondent: 60 minutes.

Frequency of Response: On occasion.

Estimated Number of Respondents: 16,000.

Dated: September 29, 2014.
By direction of the Secretary.
Crystal Rennie,
Department Clearance Officer, Department of Veterans Affairs.

[FR Doc. 2014-23501 Filed 10-1-14; 8:45 am]

BILLING CODE 8320-01-P